FEDERAL RESERVE SYSTEM

Agency Information Collection Activities: Announcement of Board Approval Under Delegated Authority and Submission to OMB

AGENCY: Board of Governors of the Federal Reserve System.

SUMMARY: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Cynthia Ayouch—Division of Research and Statistics, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW., Washington, DC 20503.

Final approval under OMB delegated authority of the extension for three years, with revision, of the following reports:

1. Report title: Survey to Obtain Information on the Relevant Market in Individual Merger Cases.

Agency form number: FR 2060.

OMB control number: 7100-0232.

Frequency: On occasion.

Reporters: Small businesses and consumers.

Annual reporting hours: 9 hours.

Estimated average hours per response: Small businesses, 10 minutes; consumers, 6 minutes.

Number of respondents: 25 small businesses and 50 consumers per survey.

General description of report: This information collection is voluntary pursuant to the Change in Bank Control Act (12 U.S.C. 1817(j)(7)(A) and (B)), the Bank Merger Act (12 U.S.C. 1828(c)(5)), and section 3(c)(1) of the Bank Holding Company Act (BHC Act) (12 U.S.C. 1842(c)(1)). Individual responses are confidential pursuant to the Freedom of Information Act (5 U.S.C. 552 (b)(4) and (b)(6)) for small businesses and consumers, respectively.

Abstract: The Federal Reserve uses this information to define relevant banking markets for specific merger and acquisition applications and to evaluate changes in competition that would result from proposed transactions, including purchase and assumption agreements.

Current Actions: On April 15, 2013, the Federal Reserve published a notice in the Federal Register (78 FR 22261) seeking public comment for 60 days on the extension, with revision, of the FR 2060. The comment period for this notice expired on June 14, 2013. The Federal Reserve did not receive any comments. The revision will be implemented as proposed.

2. Report title: Notice Claiming Status as an Exempt Transfer Agent.

Agency form number: FR 4013.

OMB control number: 7100-0137.

Frequency: On occasion.

Reporters: Banks, Bank Holding Companies (BHCs), SLHCs, and certain trust companies.

Annual reporting hours: 20 hours.

Estimated average hours per response: 2 hours.

Number of respondents: 10.

General description of report: This information collection is mandatory pursuant to section 17A(c) of the Securities Exchange Act of 1934 (15 U.S.C. 78q-1(c)) as amended by the Securities Acts Amendments of 1975. This section provides for the registration of transfer agents within the appropriate regulatory agencies (including the Federal Reserve under 15 U.S.C. 78c(a)(34)(B)(ii). The data collected are not given confidential treatment.

Abstract: Banks, BHCs, and trust companies subject to the Federal Reserve's supervision that are low-volume transfer agents voluntarily file the notice on occasion with the Federal Reserve. Transfer agents are institutions that provide securities transfer, registration, monitoring, and other specified services on behalf of securities issuers. The purpose of the notice, which is effective until the agent withdraws it, is to claim exemption from certain rules and regulations of the Securities and Exchange Commission (SEC). The Federal Reserve uses the notices for supervisory purposes because the SEC has assigned to the Federal Reserve responsibility for collecting the notices and verifying their accuracy through examinations of the respondents. There is no formal reporting form and each notice is filed as a letter.

Current Actions: On April 15, 2013, the Federal Reserve published a notice in the Federal Register (78 FR 22261) seeking public comment for 60 days on the extension, with revision, of the FR 4013. The comment period for this notice expired on June 14, 2013. The Federal Reserve did not receive any comments. The revision will be implemented as proposed.

Final approval under OMB delegated authority of the extension for three years, without revision, of the following reports:

1. Report title: Request for Extension of Time to Dispose of Assets Acquired in Satisfaction of Debts Previously Contracted.

Agency form number: FR 4006.

OMB control number: 7100-0129.

Frequency: Annual.

Reporters: BHCs.

Annual reporting hours: 885 hours.

Estimated average hours per response: 5 hours.

Number of respondents: 177.

General description of report: This information collection is required to obtain a benefit pursuant to sections 4(a) and 4(c)(2) of the BHC Act (12 U.S.C. 1843(a) and (c)(2)) and may be given confidential treatment upon request. The Federal Reserve has established a procedure for requesting an extension in its Regulation Y (12 CFR 225.22(d)(1) and 225.140).

Abstract: A BHC that acquired voting securities or assets through foreclosure in the ordinary course of collecting a debt previously contracted may not retain ownership of those shares or assets for more than two years without prior Federal Reserve approval. There is no formal reporting form and each request for extension must be filed at the appropriate Reserve Bank of the BHC. The Federal Reserve uses the information provided in the request to fulfill its statutory obligation to supervise BHCs.

Current actions: On April 15, 2013, the Federal Reserve published a notice in the Federal Register (78 FR 22261) seeking public comment for 60 days on the extension, without revision, of the FR 4006. The comment period for this notice expired on June 14, 2013. The Federal Reserve did not receive any comments.

2. Report title: Stock Redemption Notification.

Agency form number: FR 4008.

OMB control number: 7100-0131.

Frequency: On occasion.

Reporters: BHCs.

Reporters: BHCs.

Annual reporting hours: 155 hours.

Estimated average hours per response: 15.5 hours.

Number of respondents: 10.

General description of report: This information collection is mandatory pursuant to Sections 5(b) and (c) of the BHC Act (12 U.S.C. 1844(b) and (c)) and is generally not given confidential treatment. However, a respondent may request that the information be kept confidential on a case-by-case basis.

Abstract: The BHC Act and Regulation Y generally require a BHC to seek prior Federal Reserve approval before purchasing or redeeming its equity securities. Given that a BHC is exempt from this requirement if it meets certain financial, managerial, and supervisory standards, only a small portion of proposed stock redemptions actually require the prior approval of the Federal Reserve. There is no formal reporting form. The Federal Reserve uses the information provided in the redemption notice to fulfill its statutory obligation to supervise BHCs.

Current actions: On April 15, 2013, the Federal Reserve published a notice in the Federal Register (78 FR 22261) seeking public comment for 60 days on the extension, without revision, of the FR 4008. The comment period for this notice expired on June 14, 2013. The Federal Reserve did not receive any comments.

3. Report title: Investment in Bank Premises Notification.

Agency form number: FR 4014.

OMB control number: 7100-0139.

Frequency: On occasion.

Reporters: State member banks (SMBs).

Annual reporting hours: 6 hours.

Estimated average hours per response: 30 minutes.

Number of respondents: 11.

General description of report: This information collection is required to obtain a benefit pursuant to Section 24A(a) of the Federal Reserve Act (12 U.S.C. 371d(a)) and is not given confidential treatment. However, a respondent may request confidential treatment for all or part of a notification, which would be reviewed on a case-by-case basis.

Abstract: The Federal Reserve Act requires SMBs to seek prior Federal Reserve approval before making an investment in bank premises that exceeds certain thresholds. There is no formal reporting form, and each required request for prior approval must be filed as a notification with the appropriate Reserve Bank of the SMB. The Federal Reserve uses the information provided in the notice to fulfill its statutory obligation to supervise SMBs.

Current actions: On April 15, 2013, the Federal Reserve published a notice in the Federal Register (78 FR 22261) seeking public comment for 60 days on the extension, without revision, of the FR 4014. The comment period for this notice expired on June 14, 2013. The Federal Reserve did not receive any comments.

Board of Governors of the Federal Reserve System, June 20, 2013.
Robert deV. Frierson,
Secretary of the Board.

[FR Doc. 2013-15168 Filed 6-24-13; 8:45 am]

BILLING CODE 6210-01-P